DEPARTMENT OF THE INTERIOR

Office of the Secretary

[XXXD5198NI DS61100000 DNINR0000.000000 DX61104]

Exxon Valdez Oil Spill Public Advisory Committee Charter Renewal

AGENCY: Office of the Secretary, Interior.

ACTION: Notice.

SUMMARY: The U.S. Department of the Interior announces the renewal of the Exxon Valdez Oil Spill Public Advisory Committee.

FOR FURTHER INFORMATION CONTACT: Philip Johnson, U.S. Department of the Interior, Office of Environmental Policy and Compliance, 1689 C Street, Suite 119, Anchorage, Alaska 99501-5126, 907-271-5011.

SUPPLEMENTARY INFORMATION: The Court Order establishing the Exxon Valdez Oil Spill Trustee Council also requires a public advisory committee. The Public Advisory Committee was established to advise the Trustee Council and began functioning in October 1992. The Public Advisory Committee consists of 10 members representing the following principal interests: Aquaculturists/mariculturists, commercial fishers, commercial tourism, recreation users, conservationists/environmentalists, Native landowners, sport hunters/fishers, subsistence users, scientists/technologists, and public-at-large. In order to ensure that a broad range of public viewpoints continues to be available to the Trustee Council, and in keeping with the settlement agreement, the continuation of the Public Advisory Committee is recommended.

In accordance with the provisions of the Federal Advisory Committee Act, as amended (5 U.S.C., App. 2), and in consultation with the General Services Administration, the Secretary of the Interior hereby renews the Charter of the Exxon Valdez Oil Spill Public Advisory Committee.

Certification Statement: I hereby certify that the renewal of the Charter of the Exxon Valdez Oil Spill Public Advisory Committee is necessary and in the public interest in connection with the performance of duties mandated by the settlement of United States v. State of Alaska, No. A91-081 CV, and is in accordance with the Comprehensive Environmental Response, Compensation and Liability Act of 1980, as amended and supplemented.

Dated: September 28, 2016.
Sally Jewell,
Secretary of the Interior.

[FR Doc. 2016-24143 Filed 10-4-16; 8:45 am]

BILLING CODE 4334-63-P